DEPARTMENT OF ENERGY

Federal Energy Regulatory Commission

[Docket No. RP01-579-000]

MIGC, Inc.; Notice of Tariff Filing and Annual Charge Adjustment

September 7, 2001.

Take notice that on August 31, 2001 MIGC, Inc., (MIGC) tendered for filing as part of its FERC Gas Tariff, First Revised Volume No. 1, Sixth Revised Sheet No. 4 to become effective October 1, 2001.

MIGC states that the purpose of the filing is to revise the ACA unit charge to $.0021 per Dth applicable to the Commission's fiscal year commencing October 1, 2001 as provided for in 18 CFR 54.402(c) and as set forth on Original Sheet No. 5 of its FERC Gas Tariff, First Revised Volume No. 1.

MIGC states that copies of this filing are being mailed to its customers and state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23131 Filed 9-14-01; 8:45 am]

BILLING CODE 6717-01-P